ENVIRONMENTAL PROTECTION AGENCY

[FRL-6867-1]

Regulatory Reinvention (XL) Pilot Projects; Project XL Draft Final Project Agreement: Waste Management, Inc. Landfill Bioreactor Systems

AGENCY: Environmental Protection Agency (EPA).

ACTION: Notice of availability of USA Waste of Virginia, Inc., and King George Landfills, Inc., wholly owned subsidiaries of Waste Management, Inc. (hereinafter Waste Management) Bioreactor Systems Project XL Draft Final Project Agreement.

SUMMARY: EPA is today requesting comments on a draft Project XL Final Project Agreement (FPA) for Waste Management.

DATES: The period for submission of comments on the draft FPA ends on September 22, 2000.

ADDRESSES: All comments on the draft Final Project Agreement should be sent to: Janet Murray, U.S. EPA, 1200 Pennsylvania Avenue, NW (m/c1802), Washington, DC 20460. Comments may also be faxed to Ms. Murray at (202) 260-3125. Comments will also be received via electronic mail sent to: Murray.Janet@epa.gov.

FOR FURTHER INFORMATION CONTACT: To obtain a copy of the draft Final Project Agreement, contact: Chris Menen, USEPA Region 3 (m/c 3EIOO) 1650 Arch St. Philadelphia, PA 19103 or Janet Murray, U.S.EPA, 1200 Pennsylvania Ave, NW. (m/c 1802), Washington, DC 20460. The FPA and related documents are also available via the Internet at the following location: www.epa.gov/projectxl. In addition, project documents are located at EPA Region 3, 1650 Arch St. Philadelphia, PA 19103. Questions to EPA regarding the documents can be directed to Chris Menen at (215) 814-2786 or Janet Murray at (202) 260-7570. Documents pertaining to the project will be maintained at the Virginia Department of Environmental Quality, 629 Main Street, Richmond, VA 22129 c/o Paul Farrell, (804) 698-4214. Documents will also be maintained at public libraries in King George County and Amelia County. The address for the library in Amelia County is: The James Hammer Memorial Library, 16351 Dunn Street, Amelia, Virginia 23002, and the file is entitled “Amelia County Landfill, Maplewood Site, Project XL.” The address for the library in King George County is: L.F. Smoot Lewis Memorial, 9533 Kings Highway, King George, Virginia 22485, and the file will be entitled “King George County Landfill Project XL.” Additional information on Project XL, including documents referenced in this notice, other EPA policy documents related to Project XL, application information, and descriptions of existing XL projects and proposals, is available via the Internet at www.epa.gov/projectxl.

SUPPLEMENTARY INFORMATION: The FPA is a voluntary agreement developed by Waste Management, the Commonwealth of Virginia, and USEPA. Project XL, announced in the Federal Register on May 23, 1995 (60 FR 27282), gives regulated entities the opportunity to develop alternative strategies that will replace or modify specific regulatory requirements on the condition that they produce greater environmental benefits. If implemented, the draft FPA will allow Waste Management to implement two slightly different waste treatment systems at two of its Virginia Landfills. Leachate recirculation would be implemented at its Maplewood Recycling and Waste Disposal Facility, owned and operated by Waste Management, Inc. subsidiary USA Waste of Virginia, Inc. Bioreactor operations would be implemented at the King George County Landfill and Recycling Facility, operated by Waste Management, Inc., subsidiary King George Landfills , Inc. Under the project, Waste Management is requesting flexibility from the regulatory requirement that restricts application of bulk liquids in municipal solid waste landfills (40 CFR 258.28) as well as similar flexibility under part V of Virginia Solid Waste Management Regulations. EPA expects to shortly publish a document in the Federal Register proposing and seeking public comment on a site-specific rule to modify the requirements of 40 CFR 258.28 for this project.

Dated: September 1, 2000.
Christopher Knopes,
Associate Director, Office of Environmental Policy Innovation.

[FR Doc. 00-23148 Filed 9-7-00; 8:45 am]

BILLING CODE 6560-50-U